DEPARTMENT OF THE INTERIOR

Bureau of Land Management

[OR-015-1610-DR; GP-03-0153]

Notice of Availability of the Lakeview Resource Management Plan/Final Environmental Impact Statement and Record of Decision

AGENCY: Bureau of Land Management, Interior.

ACTION: Notice of availability for the Lakeview Resource Management Plan (RMP)/Final Environmental Impact Statement (EIS) and Record of Decision (ROD).

SUMMARY: In accordance with the Federal Land Policy and Management Act (FLPMA) and the National Environmental Policy Act (NEPA), the Bureau of Land Management (BLM) has issued a ROD for the Lakeview Proposed RMP/Final EIS. The ROD documents the approval of the BLM's land use plan for approximately 3.2 million acres of public land managed by the Lakeview Resource Area, Lakeview District, located in Lake and Harney Counties in southeastern Oregon. This decision supercedes the High Desert, Warner Lakes, and Lost River Management Framework Plans.

DATES: A total of 15 protests and 3 comment letters were submitted during the 30-day protest period, which closed March 3, 2003. All of the letters were reviewed and responses provided by the BLM. The land use planning decisions contained in the approved RMP became effective on the date the BLM State Director signed the ROD. In addition, a number of project level implementation decisions are made in the ROD. These decisions are appealable in accordance with 43 CFR part 4. The appeal period will start on the date the notice of availability is published. These project level decisions will be implemented over time, as described in the ROD, as funding and staff are available.

FOR FURTHER INFORMATION CONTACT: Information about the plan and hard copies of the approved Lakeview RMP/ROD may be obtained by contacting Paul Whitman, BLM, Lakeview District, 1301 South G Street, Lakeview, Oregon 97630. Telephone (541-947-6110), Fax (541-947-6399), e-mail (pwhitman@or.blm.gov). Copies have been mailed to all on the mailing list. The document and supporting data are also available electronically in portable document format on CD-ROM and via the internet at http://www.or.blm.gov/Lakeview/Planning/planning.htm.

Dated: June 16, 2003.
Thomas E. Rasmussen,
Field Manager, Lakeview Resource Area.

[FR Doc. 03-32314 Filed 12-31-03; 2:18 pm]

BILLING CODE 4310-33-P